DEPARTMENT OF THE INTERIOR

Fish and Wildlife Service

Cabeza Prieta National Wildlife Refuge Draft Comprehensive Conservation Plan, Draft Environmental Impact Statement, and Draft Wilderness Stewardship Plan

AGENCY: Fish and Wildlife Service, Interior.

ACTION: Notice of availability; reopening of public comment period.

SUMMARY: With this notice, the U.S. Fish and Wildlife Service (Service, we) reopen the public comment period on the Draft Comprehensive Conservation Plan (CCP), Draft Environmental Impact Statement (EIS), and Draft Wilderness Stewardship Plan (Plan) for the Cabeza Prieta National Wildlife Refuge in Pima and Yuma Counties, Arizona. We also intend to announce upcoming public meetings, at which we will receive comments.

DATES: Please submit your written comments on the Draft CCP, Draft EIS, and Draft Plan on or before August 15, 2005.

ADDRESSES: The Draft CCP, Draft EIS, and Draft Plan are available on a compact disk or as a hard copy. To request a copy, please contact Mr. John Slown, Biologist/Conservation Planner, U.S. Fish and Wildlife Service, National Wildlife Refuge System, Southwest Region, Division of Planning, P.O. Box 1306, Albuquerque, NM 87103; please specify the format you prefer. You may also access or download a copy at the following Web site: http://southwest.fws.gov/refuges/Plan/index.html.

FOR FURTHER INFORMATION CONTACT: Mr. John Slown, 505-248-7458; or e-mail: john_slown@fws.gov.

SUPPLEMENTARY INFORMATION: This notice advises the public that the U.S. Fish and Wildlife Service (Service, we) will accept public and agency comments regarding the Draft CCP, Draft EIS, and Draft Plan for Cabeza Prieta National Wildlife Refuge in Pima and Yuma Counties, Arizona, until Monday, August 15, 2005. We announced availability of the Draft CCP, Draft EIS and Draft Plan for Cabeza Prieta National Wildlife Refuge, gave background information, and opened a public comment period on March 16, 2005 (70 FR 12895). This comment period closed on June 14, 2005.

We now reopen the comment period. This will give interested members of the public and agencies sufficient time to provide us comments on the Draft CCP, Draft EIS, and Draft Plan. Comments previously submitted need not be resubmitted, as they will be incorporated into the public record as part of this reopened comment period, and will be fully considered. We also plan to hold public meetings to present the Draft CCP, Draft EIS, and Draft Plan; answer questions; and receive formal public comments in Yuma, Tucson, Sells, and Ajo, Arizona, during the public comment period. We will post notice of the meetings in local newspapers and other media outlets, and we will also send notice through mailings to individuals and organizations that have expressed interest in this planning effort.

Dated: June 10, 2005.
Larry G. Bell,
Acting, Regional Director, U.S. Fish and Wildlife Service, Albuquerque, New Mexico.

[FR Doc. 05-12289 Filed 6-21-05; 8:45 am]

BILLING CODE 4310-55-P